DEPARTMENT OF STATE

[Public Notice 4743]

Announcement of Meetings of the International Telecommunication Advisory Committee

Summary: The International Telecommunication Advisory Committee will meet in July, August, and September to prepare for meetings of CITEL PCC.I and ITU-D Study Groups 1 and 2. Members of the public will be admitted to the extent that seating is available, and may join in the discussions, subject to the instructions of the Chair.

The International Telecommunication Advisory Committee (ITAC) will meet on Wednesday, July 28, 2004, 2-4 p.m., at the offices of Verizon Communications, 1300 Eye Street, Washington, DC, to prepare for the August meeting of CITEL Permanent Consultative Committee I (Telecommunication Standardization). A conference bridge will be provided courtesy of Verizon. A detailed agenda will be published on the email reflector pcci-citel@eblist.state.gov. People desiring to attend the meeting who are not on this list may request the information from the Secretariat at minardje@state.gov.

The International Telecommunication Advisory Committee (ITAC) will meet on Wednesday, July 28, Wednesday August 4, and Wednesday September 1, 2-4 p.m., to prepare for meetings of ITU-D Study Groups 1 and 2. All three meetings will be at the Department of State, Room 2533A, 2201 C Street, Washington, DC. There will be no conference bridge. Entrance to the Department of State is controlled; people intending to attend a meeting at the Department of State should send their clearance data by fax to (202) 647-7407 or e-mail to mccorklend@state.gov not later than 24 hours before the meeting. Please include the name of the meeting, your name, social security number, date of birth and organizational affiliation. One of the following valid photo identifications will be required for admittance: U.S. driver's license with your picture on it, U.S. passport, or U.S. Government identification. Directions to the meeting location may be obtained by calling the ITAC Secretariat at 202 647-2592 or e-mail to mccorklend@state.gov.

Dated: July 9, 2004.
Marian R. Gordon,
Director, Telecommunication & Information Standardization, EB/CIP/MA Department of State.

[FR Doc. 04-16082 Filed 7-14-04; 8:45 am]

BILLING CODE 4710-45-P